FEDERAL MARITIME COMMISSION

Ocean Transportation Intermediary License; Reissuance

Notice is hereby given that the following Ocean Transportation Intermediary license have been reissued by the Federal Maritime Commission pursuant to section 19 of the Shipping Act of 1984 (46 U.S.C. chapter 409) and the regulations of the Commission pertaining to the licensing of Ocean Transportation Intermediaries, 46 CFR part 515.

License No. | Name/Address | Date reissued
012248N | World Air and Ocean Services, Inc., 461 Littlefield Avenue, So. San Francisco, CA 94080 | September 2, 2011.
019901N | Ambiorix Cargo Express Inc., 453 East 167th Street, Bronx, NY 10456 | August 21, 2011.

Sandra L. Kusumoto,
Director, Bureau of Certification and Licensing.

[FR Doc. 2011-28032 Filed 10-28-11; 8:45 am]

BILLING CODE 6730-01-P